DEPARTMENT OF TREASURY

Internal Revenue Service

Request for Nominations to Advisory Committee on Tax Exempt and Government Entities

AGENCY: Internal Revenue Service (IRS); Tax Exempt and Government Entities Division.

ACTION: Notice.

SUMMARY: The Internal Revenue Service (IRS) is requesting nominations for members to serve on the Advisory Committee on Tax Exempt and Government Entities (ACT). Nominations will be accepted for the following vacancies which will occur in June 2003: two employee plans; two exempt organizations; two government entities. To ensure appropriate balance of membership, final selection from qualified candidates will be determined based on experience, qualifications, and other expertise.

DUE DATE: Written nominations must be received on or before November 29, 2002.

APPLICATION: Nominations should include name; other name(s) used and date(s) (required for FBI check); date of birth (required for FBI check); city and state of birth (required for FBI check); current address; telephone and fax numbers; and E-mail address, if any.

ADDRESSES: Send all applications to: Steven Pyrek, Director, TE/GE Communications and Liaison, 1111 Constitution Ave., NW.—T:CL Penn Bldg, Washington, DC 20224; Fax: (202) 283-9956 (not a toll-free number); E-mail: steve.j.pyrek@irs.gov.

FOR FURTHER INFORMATION CONTACT: Rick Trevino, (202) 283-9950 (not a toll-free number), or by e-mail at rick.trevino@irs.gov.

SUPPLEMENTARY INFORMATION: The Advisory Committee on Tax Exempt and Government Entities (ACT), governed by the Federal Advisory Committee Act, Pub. L. 92-463, is an organized public forum for discussion of relevant employee plans, exempt organizations, tax-exempt bonds, and state, local, and Indian tribal government issues between officials of the IRS and representatives of the above communities. The ACT also enables the IRS to receive regular input with respect to the development and implementation of IRS policy concerning these communities. ACT members present the interested public's observations about current or proposed IRS policies, programs, and procedures, as well as suggest improvements.

ACT members shall be appointed by the Secretary of the Treasury and shall serve for two-year terms. Terms can be extended in one-year increments, not to exceed two years. ACT members will not be paid for their time or services. ACT members will be reimbursed for their travel-related expenses to attend working sessions and public meetings, in accordance with 5 U.S.C. 5703.

The Secretary of the Treasury invites those individuals, organizations, and groups affiliated with employee plans, exempt organizations, tax-exempt bonds, and state, local or Indian tribal governments, to nominate individuals for membership on the ACT. Nominations should describe and document the proposed member's qualifications for membership on the ACT. Nominations should also specify the vacancy for which they wish to be considered. The Secretary seeks a diverse group of members representing a broad spectrum of persons experienced in employee plans, exempt organizations, tax-exempt bonds, and state, local or Indian tribal governments.

Nominees must go through a clearance process before selection by the Secretary of the Treasury. In accordance with Department of the Treasury Directive 21-03, the clearance process includes, among other things, pre-appointment and annual tax checks, and a Federal Bureau of Investigation criminal and subversive name check and security clearance.

Dated: October 24, 2002.
Steven J. Pyrek,
Designated Federal Official, Tax Exempt and Government Entities Division, Internal Revenue Service.

[FR Doc. 02-27635 Filed 10-29-02; 8:45 am]

BILLING CODE 4830- 01-P